DEPARTMENT OF ENERGY

Federal Energy Regulatory Commission

[Docket No. CP25-533-000]

Pine Prairie Energy Center, LLC; Notice of Schedule for the Preparation of an Environmental Assessment for the Pine Prairie Energy Center Phase IV Expansion Project

On August 8, 2025, Pine Prairie Energy Center, LLC (Pine Prairie) filed an application in Docket No. CP25-533-000 requesting a Certificate of Public Convenience and Necessity pursuant to Section 7(c) of the Natural Gas Act to construct and operate certain natural gas pipeline facilities. The proposed project is known as the Pine Prairie Energy Center Phase IV Expansion Project (Project) and would amend Pine Prairie's certificated total capacity to 87.2 billion cubic feet (Bcf) of natural gas (61.1 Bcf of working gas and 26.1 Bcf of base gas) and reduce the maximum daily delivery capability from 3.2 Bcf/day to 3.0 Bcf/day.

On August 22, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1758873996.

Schedule for Environmental Review

Issuance of EA January 23, 2026

90-day Federal Authorization Decision Deadline ² April 23, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project is in Evangeline Parish, Louisiana, and would consist of the following facilities:

• a new natural gas storage cavern (Cavern No. 6);

• 0.16 mile of natural gas, fresh water, and brine return pipelines that would interconnect with existing systems;

• new brine filtration, gas heating, and dehydration equipment, and demolition of existing out-of-service brine filtration equipment;

• a new 19,000 horsepower electric motor-driven compressor unit in an extension of the existing compressor building;

• about 2.4 miles of 30-inch-diameter header loop pipeline; and

• modification of the existing ANR-North Meter Station and Highway 10 Valve Site.

Background

On September 17, 2025, the Commission issued a Notice of Scoping Period Requesting Comments on Environmental Issues for the Proposed Pine Prairie Energy Center Phase IV Expansion Project (Notice of Scoping). The Notice of Scoping was sent to affected landowners; federal, state, and local government agencies; elected officials; environmental and public interest groups; Native American tribes; other interested parties; and local libraries. In response to the Notice of Scoping, the Commission received comments from Ironworkers Local 623 of Baton Rouge, Louisiana, expressing support for the project, and Our Children's Trust, a legal advocacy group that commented agency actions must be consistent with protecting the rights to life, personal security, other liberties of young people, and children's equal protection of the law. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-533), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 17, 2025.
Debbie-Anne A. Reese,
Secretary.

[FR Doc. 2025-21029 Filed 11-24-25; 8:45 am]

BILLING CODE 6717-01-P